ENVIRONMENTAL PROTECTION AGENCY

[EPA-HQ-OAR-2020-0312; FRL-7887-02-OAR]

Release of Volumes 1 and 2 of the Integrated Review Plan for the Lead National Ambient Air Quality Standards

AGENCY: Environmental Protection Agency (EPA).

ACTION: Notice of availability.

SUMMARY: On or about March 4, 2022, the Environmental Protection Agency (EPA) is making available to the public, Volumes 1 and 2 of the Integrated Review Plan for the Lead National Ambient Air Quality Standards (IRP). The national ambient air quality standards (NAAQS) for lead (Pb) are set to protect the public health and the public welfare from Pb in ambient air. Volume 1 of the IRP contains contextual background material and the anticipated schedule for the current review of the air quality criteria and NAAQS for Pb. Volume 2 identifies policy-relevant issues in the review and describes key considerations in EPA's development of the Integrated Science Assessment (ISA). The ISA provides the scientific basis for the EPA's decisions, in conjunction with additional technical and policy assessments, for the review of the NAAQS, as described in the Clean Air Act, section 108(a).

DATES: Comments must be received on or before April 4, 2022.

ADDRESSES: You may send comments on Volume 2 of the IRP, identified by Docket ID No. EPA-HQ-OAR-2020-0312, by any of the following methods:

• Federal eRulemaking Portal: https://www.regulations.gov/ (our preferred method). Follow the online instructions for submitting comments.

• Mail: U.S. Environmental Protection Agency, EPA Docket Center, Office of Air and Radiation Docket, Mail Code 28221T, 1200 Pennsylvania Avenue NW, Washington, DC 20460.

• Hand Delivery or Courier (by scheduled appointment only): EPA Start Printed Page 56264 Docket Center, WJC West Building, Room 3334, 1301 Constitution Avenue NW, Washington, DC 20004. The Docket Center's hours of operations are 8:30 a.m.-4:30 p.m., Monday-Friday (except Federal Holidays).

Instructions: All submissions received must include the Docket ID No. for this notice. Comments received may be posted without change to https://www.regulations.gov, including any personal information provided. For detailed instructions on sending comments, see the SUPPLEMENTARY INFORMATION section of this document. The two volumes described here will be available on the EPA's website at https://www.epa.gov/naaqs/lead-pb-air-quality-standards. The documents will be accessible under “Planning Documents” from the current review.

FOR FURTHER INFORMATION CONTACT: Dr. Deirdre L. Murphy, Office of Air Quality Planning and Standards, (Mail Code C504-06), U.S. Environmental Protection Agency, Research Triangle Park, NC 27711; telephone number: 919-541-0729, fax number: 919-541-027; or email: murphy.deirdre@epa.gov.

SUPPLEMENTARY INFORMATION:

I. General Information

Written Comments

Submit your comments, identified by Docket ID No. EPA-HQ-OAR-2020-0312, at https://www.regulations.gov (our preferred method), or the other methods identified in the ADDRESSES section. Once submitted, comments cannot be edited or removed from the docket. The EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Due to public health concerns, the EPA Docket Center and Reading Room are open to the public by appointment only. Our Docket Center staff continues to provide remote customer service via email, phone, and webform. Hand deliveries or couriers will be received by scheduled appointment only. For further information and updates on EPA Docket Center services, please visit us online at https://www.epa.gov/dockets.

II. Information About the Documents

Two sections of the Clean Air Act (CAA or the Act) govern the establishment and revision of the NAAQS. Section 108 directs the Administrator to identify and list certain air pollutants and then issue “air quality criteria” for those pollutants. The air quality criteria are to “accurately reflect the latest scientific knowledge useful in indicating the kind and extent of all identifiable effects on public health or welfare which may be expected from the presence of such pollutant in the ambient air . . .” (CAA section 108(a)(2)). Under section 109 of the Act, the EPA is then to establish primary (health-based) and secondary (welfare-based) NAAQS for each pollutant for which the EPA has issued air quality criteria. Section 109(d)(1) of the Act requires periodic review and, if appropriate, revision of existing air quality criteria. Revised air quality criteria are to reflect advances in scientific knowledge on the effects of the pollutant on public health and welfare. Under the same provision, the EPA is also to periodically review and, if appropriate, revise the NAAQS, based on the revised air quality criteria.

The Act additionally requires appointment of an independent scientific review committee that is to periodically review the existing air quality criteria and NAAQS and to recommend any new standards and revisions of existing criteria and standards as may be appropriate (CAA section 109(d)(2)(A)-(B)). Since the early 1980s, the requirement for an independent scientific review committee has been fulfilled by the Clean Air Scientific Advisory Committee (CASAC).

Presently the EPA is reviewing the air quality criteria and NAAQS for Pb.¹ The documents announced in this notice have been developed as part of the integrated review plan (IRP) which is developed in the planning phase for the review. The documents have been prepared jointly by the EPA's Center for Public Health and Environmental Assessment, within the Office of Research and Development, and the Office of Air Quality Planning and Standards, within the Office of Air and Radiation. These documents will be available on the EPA's website at https://www.epa.gov/naaqs/lead-pb-air-quality-standards, accessible under “Planning Documents” from the current review.

¹ The EPA's call for information for this review was issued on July 7, 2020 (85 FR 40641).

The IRP for the current review of the lead NAAQS will be comprised of three volumes. Volumes 1 and 2 are the subject of this notice. Volume 1 provides background information on the air quality criteria and standards for Pb and may serve as a reference by the public and the CASAC in their consideration of the subsequent two volumes. Volume 2 addresses the general approach for the review and planning for the integrated science assessment (ISA). Comments are solicited from the public on Volume 2, which will also be the subject of a consultation with the CASAC, to be announced in a separate Federal Register notice. This volume identifies policy-relevant issues in the review and describes key considerations in EPA's development of the ISA. Volume 3, which is not yet completed, is the planning document for quantitative analyses to be considered in the policy assessment (PA), including exposure and risk analyses. In order that consideration of the availability of new evidence in the review can inform these plans, the development and public availability of Volume 3 will generally coincide with that of the draft ISA and it will be the subject of a consultation with the CASAC at that time.

Comments on Volume 2 of the IRP should be submitted to the docket, as described above, by April 4, 2022. A separate Federal Register notice will provide details about the CASAC consultation meeting and the process for participation in the CASAC consultation on Volume 2. The EPA will consider the consultation comments from the CASAC and public comments on the IRP, Volume 2, in preparation of the Pb ISA. Volume 1 of the IRP, also being made available, provides background or contextual and historical material for this NAAQS review. These documents do not represent and should not be construed to represent any final EPA policy, viewpoint, or determination.

Panagiotis Tsirigotis,
Director, Office of Air Quality Planning and Standards.

[FR Doc. 2022-05085 Filed 3-9-22; 8:45 am]

BILLING CODE 6560-50-P